FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans | # | Acquired | Entities
Transactions Granted Early Termination—08/03/2004
20041182 | Tektronix, Inc | Inet Technologies, Inc | Inet Technologies, Inc.
Transactions Granted Early Termination—08/04/2004
20041139 | Holcim Ltd | Holcim Ltd | Holcim (Texas) L.P.
20041199 | Verizon Communications, Inc | Allen Salmasi | Nextwave Personal Communications Inc.
Transactions Granted Early Temrination—08/05/2004
20041179 | Dover Corporation | Corning Incorporated | Corning Frequency Control Inc., Corning Frequency Control, Ltd., Corning Frequency Control (Shanghai) Co., Ltd.
20041193 | IMCO Recycling Inc | Commonwealth Industries, Inc | Commonwealth Industries, Inc.
20041196 | Bank of America Corporation | National City Corporation | National Processing, Inc.
Transactions Granted Early Termination—08/06/2004
200541172 | Wachovia Corporation | South Trust Corporation | South Trust Corporation
20041191 | THLFS Wenco, Inc | N.E.W. Customer Service Companies, Inc | N.E.W. Customer Service Companies, Inc.
20041203 | La Quinta Corporation | The Marcus Corporation | Baymont Franchises International, LLC, Baymont Inns Hospitality LLC, Baymont Inns, Inc., Baymont Partners, LLC, Beck/Marcus Associates-Miami Airport, Cutler Ridge Associates, LMC Associates-Rockside, Marcus-Anderson-Guastello Partnership, Marcus-Anderson Partnership, Marcus Consid, LLC, Marcus Fl, LLC, Marcus Non, LLC, Mark Antell Partnership, Willowbrook Motel Limited Partnership, Woodfield Suites Franchises International, Inc. Woodfield Suites Hospitality Corporation, Woodfield Suites, Inc.
20041207 | Unifi | Koch Industries, Inc | Invista, S.a.r.l.
20041213 | Mrs. Antonia Ax:son Johnson | The Trust under the Will of Walter L. Sams | Central Coca-Cola Bottling Company, Inc.
20041214 | William L. Sauder | Crown Pacific Limited Partnership (Debtor-in-Possession) | Crown Pacific Limited Partnership (Debtor-in-Possession—
20041215 | Wells Fargo & Company | Century Park Capital Partners, L.P | Becker-Underwood, Inc.
20041220 | Dominion Resources, Inc | Multitrade of Pittsylvania County, L.P | Multitrade of Pittsylvania County, L.P.
20041221 | Blackstone FCH Capital Partners IV L.P | Morgan Stanley Dean Witter Capital Partners IV, L.P. | Vanguard Health Systems, Inc.
20041226 | Whitney V, L.P | YUM! Brands, Inc | Tricon Restaurants International (PR), Inc.
20041232 | The DirectTV Group, Inc | PST Holdings, Inc. (debtor-in-possession) | PST Holdings, Inc.
Transactions Granted Early Termination—08/09/2004
20041145 | Apollo Investment Fund V, L.P | Whitehall Associates, L.P | Borden Chemical, Inc., Borden Holdings, Inc.
20041190 | Kelso Investment Associates V, L.P | Vernalis plc | Vernalis plc
20041195 | Stryker Corporation | SpineCore, Inc | SpineCore, Inc.
20041227 | Audax Private Equity Fund, L.P | Vitaquest International, Inc | Vitaquest International, Inc.
Transactions Granted Early Termination—08/10/2004
20040195 | Cephalon, Inc. | CIMA Labs Inc | CIMA Labs Inc.
Transactions Granted Early Termination—08/11/2004
20041209 | BH/RE, L.L.C | Aladdin Gaming, LLC | Aladdin Gaming, LLC
Transactions Granted Early Termination—08/12/2004
20041210 | Arsenal Capital Partners Qualified Purchaser Fund LP | The Berwind Company LLC | Priority Air Express, LLC

FOR FURTHER INFORMATION CONTACT: Sandra M. Peay, Contact Representative or Renee Hallman, Case Management Assistant, Federal Trade Commission, Premerger Notification Office, Bureau of Competition, Room H-303, Washington, DC 20580, (202) 326-3100.

By direction of the Commission.
Donald S. Clarke,
Secretary.

[FR Doc. 04-19967 Filed 8-31-04; 8:45 am]

BILLING CODE 6750-01-M